DEPARTMENT OF STATE

22 CFR Part 96

[Public Notice: 9772]

RIN 1400-AD91

Intercountry Adoptions

AGENCY: Department of State.

ACTION: Proposed rule; extension of comment period.

SUMMARY: The Department of State (the Department) is extending the period of time by 15 days for the public to submit comments on the Proposed Intercountry Adoption rule, in order to give the public more time to respond.

DATES: The new comment closing date for the September 8, 2016, NPRM (FR Doc No. 2016-20968, 81 FR 62322), is November 22, 2016.

ADDRESSES:

• Internet: You may view this Proposed rule and submit your comments by visiting the Regulations.gov Web site at www.regulations.gov, and searching for docket number DOS-2016-0056.

• Mail or Delivery: You may send your paper, disk, or CD-ROM submissions to the following address: Comments on Proposed rule 22 CFR part 96, Office of Legal Affairs, Overseas Citizens Services, U.S. Department of State, CA/OCS/L, SA-17, Floor 10, Washington, DC 20522-1710.

• All comments should include the commenter's name and the organization the commenter represents (if applicable). If the Department is unable to read your comment for any reason, the Department might not be able to consider your comment. Please be advised that all comments will be considered public comments and might be viewed by other commenters; therefore, do not include any information you would not wish to be made public. After the conclusion of the comment period, the Secretary will publish a Final rule as expeditiously as possible in which it will address relevant public comments.

FOR FURTHER INFORMATION CONTACT:

Technical Information: Trish Maskew, (202) 485-6024.

Legal Information: Carine L. Rosalia, (202) 485-6092.

SUPPLEMENTARY INFORMATION: On September 8, 2016, the Department published a notice of Proposed rulemaking (NPRM), to amend requirements for accreditation of agencies and approval of persons to provide adoption services in intercountry adoption cases. (See 81 FR 62322.) The NPRM provided a comment period of 60 days, which expires on November 7, 2016.

In response to a request for extension, the Department extends the comment period until November 22, 2016. This will provide 75 days for the public to submit comments on this rule. Further information, including the text of the Proposed rule, can be found in the NPRM.

Dated: October 19, 2016.
Theodore R. Coley,
Acting Deputy Assistant Secretary, Overseas Citizen Services, Bureau of Consular Affairs, U.S. Department of State.

[FR Doc. 2016-26094 Filed 10-27-16; 8:45 am]

BILLING CODE 4710-06-P